DEPARTMENT OF LABOR

Bureau of Labor Statistics

Data Users Advisory Committee; Notice of Meeting and Agenda

The Bureau of Labor Statistics Data Users Advisory Committee will meet on Thursday, May 16, 2024. This meeting will be held virtually.

The Committee provides advice to the Bureau of Labor Statistics from the points of view of data users from various sectors of the U.S. economy, including the labor, business, research, academic, and government communities. The Committee advises on technical matters related to the collection, analysis, dissemination, and use of the Bureau's statistics, on its published reports, and on the broader aspects of its overall mission and function.

The agenda for the meeting is as follows:

12:00 p.m. Commissioner's Welcome and Remarks

12:30 p.m. Quarterly Census of Employment and Wages (QCEW) Wage Dynamics

1:15 p.m. Labor Market Data on Managers and Supervisors

2:00 p.m. Break

2:15 p.m. Reaching new users: BLS Language Access Work

3:00 p.m. Touchpoints: BLS.gov Customer Satisfaction Survey

3:45 p.m. Discussion of Future Topics and Concluding Remarks

4:00 p.m. Conclusion

All times are eastern time. The meeting is open to the public. Anyone planning to attend the meeting should contact Ebony Davis, Data Users Advisory Committee, at Davis.Ebony@bls.gov. Any questions about the meeting should be addressed to Mrs. Davis. Individuals who require special accommodations should contact Mrs. Davis at least two days prior to the meeting date.

Signed at Washington, DC, this 19th day of April 2024.
Leslie Bennett,
Chief, Division of Management Systems.

[FR Doc. 2024-08727 Filed 4-23-24; 8:45 am]

BILLING CODE 4510-24-P